DEPARTMENT OF TRANSPORTATION

Office of the Secretary

Notice of Applications for Certificates of Public Convenience and Necessity and Foreign Air Carrier Permits Filed Under Subpart B (Formerly Subpart Q) During the Week Ending January 1, 2011

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-1999-5140.

Date Filed: December 30, 2010.

Due Date for Answers, Conforming Applications, or Motion to Modify Scope: January 20, 2011.

Description: Application of Arrow Air, Inc. d/b/a Arrow Air requesting to change the name in which its operating authority has been issued to: Alpha Cargo Airlines, Inc., d/b/a Alpha Cargo, and for reissuance of its certificate of public convenience and necessity in that name.

Renee V. Wright,
Program Manager, Docket Operations, Federal Register Liaison.

[FR Doc. 2011-3978 Filed 2-22-11; 8:45 am]

BILLING CODE 4910-9X-P